DEPARTMENT OF ENERGY

Federal Energy Regulatory Commission

[Docket No. ER03-94-001, et al.]

Pacific Gas and Electric Company, et al.; Electric Rate and Corporate Filings

May 5, 2004.

The following filings have been made with the Commission. The filings are listed in ascending order within each docket classification.

1. Pacific Gas and Electric Company

[Docket Nos. ER03-94-001 and ER03-299-001]

Take notice that on April 29, 2004, Pacific Gas and Electric Company (PG&E) tendered for filing a refund report, in compliance with the Commission's Letter Order issued January 28, 2004 in Docket Nos. ER03-94-001 and ER03-299-001, 106 FERC ¶ 61,052.

PG&E states that copies of PG&E's filing have been served upon each person designated on the official service list in these proceedings.

Comment Date: May 20, 2004.

2. PJM Interconnection, L.L.C.

[Docket No. ER03-404-004]

Take notice that on April 29, 2004, PJM Interconnection, L.L.C. (PJM), in compliance with the Commission's order issued March 30, 2004 in Docket Nos. ER03-404-000. 001 and 003, PJM Interconnection, L.L.C., 106 FERC ¶ 61,324 (2004), submitted for filing revisions to the PJM Open Access Transmission Tariff relating to the standard terms and conditions for independent transmission companies to operate within PJM. PJM requests an effective date of March 20, 2003.

PJM states that copies of this filing were served on all persons on the Commission's service list for this proceeding, all PJM members, and each state electric utility regulatory commission in the PJM region.

Comment Date: May 20, 2004.

3. Devon Power LLC, Middletown, Power LLC, Montville Power LLC, Norwalk Power LLC and NRG Power Marketing Inc.

[Docket Nos. ER04-464-004, ER04-23-000, and ER03-563-035(consolidated)]

Take notice that on April 29, 2004, Devon Power LLC, (Devon), Middletown Power LLC, (Middletown) and Montville Power LLC, (Montville) (collectively, Applicants) and NRG Power Marketing Inc., acting as agent for Applicants, tendered for filing First Revised Schedules 1 to the Reliability Must Run Agreements entered into between each Applicant and ISO New England Inc. (ISO-NE).

Applicants state that they have provided copies of the filing to ISO-NE and served each person designated on the official service list compiled by the Secretary in this proceeding.

Comment Date: May 20, 2004.

4. MidAmerican Energy Company

[Docket No. ER04-497-002]

Take notice that on April 29, 2004, MidAmerican Energy Company (MidAmerican), filed in compliance with the Commission's order issued March 30, 2004, in Docket No. ER04-497-002, “Attachment A, Summary Matrix of MidAmerican Regional Differences on the LGIP and LGIA with April 19, 2004 Updates” and “Attachment B, Open Access Transmission Tariff”, in compliance with Order Nos. 2003 and No. 2003-A, including appropriate showings as required by the Commission for the remaining regional differences.

Comment Date: May 20, 2004.

5. Public Service Company of New Mexico

[Docket No. ER04-534-001]

Take notice that on April 23, 2004, Public Service Company of New Mexico filed a refund report in compliance with the Commission's Letter Order issued April 6, 2004 in Docket No. ER04-534-000.

Comment Date: May 17, 2004.

6. Minnesota Power Superior Water, Light & Power Company Rainy River Energy Corporation

[Docket No. ER04-649-001]

Take notice that on April 29, 2004, Minnesota Power, on behalf of Rainy River Energy Corporation, submitted a revised market-based rate tariff.

Comment Date: May 20, 2004.

7. Southern California Edison Company

[Docket No. ER04-771-000]

Take notice, that on April 29, 2004, Southern California Edison Company (SCE) tendered for filing the Service Agreement for Wholesale Distribution Service between SCE and Phoenix Wind Power LLC (PWP) (Revised Service Agreement). SCE requests that the Revised Service Agreement become effective on April 30, 2004.

SCE states that copies of this filing were served upon the Public Utilities Commission of the State of California and PWP.

Comment Date: May 20, 2004.

8. Virginia Electric and Power Company

[Docket No. ER04-772-000]

Take notice that on April 29, 2004, Virginia Electric and Power Company (Dominion Virginia Power) tendered for filing Amended Service Agreement for Network Integration Transmission Service (Retail) and Network Operating Agreement, Amended Service Agreement for Firm Point-To-Point Transmission Service, and Amended Service Agreement for Non-Firm Point-To-Point Transmission between Dominion Virginia Power and Pepco Energy Services, Inc. Dominion Virginia Power requests a waiver of the Commission's regulations to permit an effective date of March 30, 2004.

Comment Date: May 20, 2004.

9. Westar Energy, Inc.

[Docket No. ER04-773-000]

Take notice that on April 29, 2004, Westar Energy, Inc. (Westar) submitted for filing a Notice of Cancellation of Rate Schedule FERC No. 251, an Electric Supply Agreement between Westar and the City of Troy, Kansas.

Westar states that copies of this filing were served on the City of Troy, Kansas and the Kansas Corporation Commission.

Comment Date: May 20, 2004.

10. PJM Interconnection, L.L.C.

[Docket No. ER04-774-000]

Take notice that on April 29, 2004, PJM Interconnection, L.L.C. (PJM) submitted amendments to Schedule 2 of the PJM Open Access Transmission Tariff to incorporate new and amended revenue requirements for Reactive Supply and Voltage Control from General Sources Service for Allegheny Energy Supply Company, LLC (AE Supply), Monongahela Power Company (Mon Power), Conectiv Bethlehem, LLC (CBLLC), and Midwest Generation, LLC (MWGen).

PJM states that copies of this filing have been served on all PJM members, including AE Supply, Mon Power, CBLLC, and MWGen, and each state electric utility regulatory commission in the PJM region.

Comment Date: May 20, 2004.

11. PJM Interconnection, L.L.C.

[Docket No. ER04-775-000]

Take notice that on April 29, 2004, PJM Interconnection, L.L.C. (PJM), submitted for filing an executed interconnection service agreement (ISA) among PJM, Easton Utilities Commission, and Delmarva Power & Light Company d/b/a Conectiv Power Delivery. PJM requests a waiver of the Commission's 60-day notice requirement to permit a March 30, 2004 effective date for the ISA.

PJM states that copies of this filing were served upon the parties to the agreement and the state regulatory commissions within the PJM region.

Comment Date: May 20, 2004.

12. PJM Interconnection, L.L.C.

[Docket No. ER04-776-000]

Take notice that on April 29, 2004, PJM Interconnection, L.L.C. (PJM), submitted for filing revisions to the Amended and Restated Operating Agreement of PJM Interconnection, L.L.C. establishing procedures pursuant to which PJM and the PJM Market Monitoring Unit shall provide confidential information to state commissions. PJM requests an effective date of June 29, 2004 for the amendments.

PJM state that copies of this filing have been served on all PJM members, and each state electric utility regulatory commission in the PJM region.

Comment Date: May 20, 2004.

13. Avista Corporation

[Docket No. ER04-778-000]

Take notice that on April 29, 2004, Avista Corporation filed a Notice of Termination of Avista Corporation Rate Schedule FERC No. 12, a Long-Term Service Agreement with Sovereign Power, Inc. to be effective June 30, 2004.

AVA states that it has served a copy upon Sovereign Power, Inc.

Comment Date: May 20, 2004.

14. Midwest Independent Transmission System

[Docket No. ER04-779-000; Operator, Inc.]

Take notice that on April 29, 2004, the Midwest Independent Transmission System Operator, Inc., (Midwest ISO), certain of the Midwest ISO Transmission Owners, including certain of the Midwest Stand Alone Transmission Companies, GridAmerica LLC, and the GridAmerica Companies, jointly submitted for filing revisions to the Midwest ISO Agreement to implement the distribution to the GridAmerica Companies of revenues from the Regional Through and Out Rate collected under Schedule 14 of the Midwest ISO Open Access Transmission Tariff.

Comment Date: May 20, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1109 Filed 5-12-04; 8:45 am]

BILLING CODE 6717-01-P